DEPARTMENT OF ENERGY

Federal Energy Regulatory Commission

[Docket No. RM07-10-002]

Transparency Provisions of Section 23 of the Natural Gas Act; Supplemental Notice to Form No. 552 Technical Conference

March 1, 2010.

As announced in the Notice of Technical Conference issued on February 22, 2010, a technical conference will be held on March 25, 2010, from 9 a.m. to 2 p.m. (EST) in the Commission Meeting Room at the Federal Energy Regulatory Commission, 888 First Street, NE., Washington, DC 20426. The conference is open for the public to attend.

In that notice we stated on page 3 that the conference would not be webcast. However, we are now planning to webcast the conference. Set forth below is the information you will need to view the technical conference.

The webcast of the technical conference is free and registration to view the webcast is not required. Webcast viewers will not be permitted to participate during the technical conference. Anyone with Internet access interested in viewing this conference can do so by navigating to Calendar of Events on the FERC Web site. The events will contain a link to the applicable webcast option.

The Capitol Connection provides technical support for the webcasts and offers the option of listening to the conferences via phone-bridge for a fee. If you have any questions, visit http://www.CapitolConnection.org or call (703) 993-3100.

For additional information, please contact Christopher Peterson at 202-502-8933 or Christopher.Peterson@ferc.gov and Thomas Russo at 202-502-8792 or Thomas.Russo@ferc.gov of FERC's Office of Enforcement.

Kimberly D. Bose,
Secretary.

[FR Doc. 2010-4993 Filed 3-9-10; 8:45 am]

BILLING CODE 6717-01-P